BROADCASTING BOARD OF GOVERNORS

Government in the Sunshine Act Meeting Notice

Notice of Meeting of the Broadcasting Board of Governors.

DATE AND TIME: Friday, November 18, 2011, 4 p.m.

PLACE: Cohen Building, Room 3321, 330 Independence Ave. SW., Washington, DC 20237.

SUMMARY: The Broadcasting Board of Governors (BBG) will be meeting at the time and location listed above. The BBG will receive and consider recommendations from the BBG's Governance Committee regarding the BBG meeting schedule for year 2012. The BBG will receive reports from: the International Broadcasting Bureau Director including the BBG's Performance Accountability Report and global audience estimate, the Voice of America Director, the Office of Cuba Broadcasting Director, and the Presidents of Radio Free Europe/Radio Liberty, Radio Free Asia, and the Middle East Broadcasting Networks. The meeting is open to public observation via streamed webcast, both live and on-demand, on the BBG's public Web site at http://www.bbg.gov.

CONTACT PERSON FOR MORE INFORMATION: Persons interested in obtaining more information should contact Paul Kollmer-Dorsey at (202) 203-4545.

Paul Kollmer-Dorsey,
Deputy General Counsel.

[FR Doc. 2011-29476 Filed 11-9-11; 4:15 pm]

BILLING CODE 8610-01-P